DEPARTMENT OF LABOR

Employment and Training Administration

[TA-W-70,575]

Amended Certification Regarding Eligibility To Apply for Worker Adjustment Assistance

Visteon Corporation; Visteon Headquarters;

Including Headquarter Employees At Plymouth, Michican Site and On-Site Workers From Automotive Components Holdings, LLC (ACH), a Subsidiary of Ford Motor Company, and Including On-Site Leased Workers from MSX International, Manpower, Acro Service Corp., Adecco, Inc., Aerotek, Inc., CDI Corporation, Emergent Systems Corp., Engenius, Inc., G-Tech Professional Staffing, Inc., Innovision Technologies, Inc., Meda Technical Services, Inc., Midwest Labor Services, Inc., Talascent (Formerly Known as Modern Professional Services, Rapid Global Business Solutions, Inc., Tempstaff, Inc., the Epitec Group, Trialon Corp., Webrunners, Inc., d/b/a W3R, Syntel, Inc., Computer Horizons Corp., Simmetrix, Inc., Mika Systems, Inc., Integrated Management Systems, Inc.(IMSI), Logica (Bought Out by Teledata Precision Design, Inc.), Sigma Technologies, Inc., Halo Group, LLC, Black Diamond Software, Ciber, Inc., Engineering Technology Associates, Inc., TAC Transportation, the Bartech Group, Manower Temporary Services and Kelly Services Van Buren Township, Michigan

In accordance with Section 223 of the Trade Act of 1974, as amended (“Act”), 19 U.S.C. 2273, the Department of Labor issued a Certification of Eligibility to Apply for Worker Adjustment Assistance on July 28, 2009, applicable to workers of Visteon Corporation, Visteon Headquarters, including Headquarter employees at Plymouth, Michigan site and on-site leased workers from MSX International and Manpower, Van Buren Township, Michigan. The workers are engaged in the manufacturing of automotive systems.

The Visteon Headquarter sites provide support services including research, engineering, manufacturing support, and administrative services such as purchasing, material planning and logistics, legal, human resources, finance, information technology and sales to their affiliated production sites. The notice was published in the Federal Register September 22, 2009 (74 FR 48303). The certification was amended on October 13, 2009 to include the above mention on-site leased firms. The amended notice was published in the Federal Register on October 27, 2009 (74 FR 55260).

At the request of a company official, the Department reviewed the certification for workers of the subject firm.

The company reports that on-site workers from Automotive Components Holdings, LLC (ACH), a subsidiary of Ford Motor Company, were employed on-site at the Van Buren Township, Michigan site and at the Plymouth, Michigan site. The Department has determined that these workers were sufficiently under the control of the subject firm to be included in this certification.

Based on these findings, the Department is amending this certification to include workers from ACH, a subsidiary of Ford Motor Company working on-site at the Van Buren Township, Michigan site of Visteon Corporation, Visteon Headquarters, including Headquarter Employees at the Plymouth, Michigan site.

The amended notice applicable to TA-W-70,575 is hereby issued as follows:

All workers of Visteon Corporation, Visteon Headquarters, including Headquarter employees at the Plymouth, Michigan site and on-site leased workers from Automotive Components Holdings, LLC (ACH), a subsidiary of Ford Motor Company, MSX International, Manpower, Acro service Corp., Adecco, Inc., Aerotek, Inc., CDI Corp., Emergent Systems Corp., EnGenius, Inc., G-Tech Professional Staffing, Inc., Innovision Technologies, Inc., MEDA Technical Services, Inc., Midwest Labor Services, Inc., Talascend (formerly know as Modern Professional Services, Inc.), Rapid global Business Solutions, Inc., TempStaff, Inc., The Epitec Group, Trialon Corp., Webrunners, Inc., d/b/a W3R, Synetel, Inc., Computer Horizons Corp., Simmetrix, Inc., Mika Systems, Inc., Integrated Management Systems, Inc. (IMSI), Logica (bought out by Teledata Precision Design, Inc.), Sigma Technologies, Inc., Halo Group, LLC, Black Diamond Software, Ciber, Inc., Engineering Technology Associates, Inc., TAC Transportation, The Bartech Group, Manpower Temporary Services and Kelly Services, Inc., Van Buren Township, Michigan, who became totally or partially separated from employment on or after May 18, 2008, through July 28, 2011, and all workers in the group threatened with total or partial separation from employment on date of certification through two years from the date of certification, are eligible to apply for adjustment assistance under Chapter 2 of Title II of the Trade Act of 1974, as amended.

Signed at Washington, DC, this 4 day of March, 2011.
Del Min Amy Chen,
Certifying Officer, Office of Trade Adjustment Assistance.

[FR Doc. 2011-5651 Filed 3-11-11; 8:45 am]

BILLING CODE 4510-FN-P